DEPARTMENT OF TRANSPORTATION

Federal Aviation Administration

14 CFR Part 39

[Docket No. FAA-2009-0437; Directorate Identifier 2009-CE-018-AD]

RIN 2120-AA64

Airworthiness Directives; PILATUS AIRCRAFT LTD. Models PC-12, PC-12/45, PC-12/47 and PC-12/47E Airplanes

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI (two different MCAI) describe the unsafe conditions as:

FOCA AD HB 2002-271 was issued because the Nose Landing Gear (NLG) Right Hand (RH) upper drag link, Part Number (P/N) 532.20.12.140 was found broken on some aircraft due to fatigue cracking, and therefore a life limit of 4,000 landings was introduced.

Recent investigation of a new occurrence revealed that the replacement part NLG RH upper drag link P/N 532.20.12.289 also suffered fatigue cracking, however on a different location.

Complete failure of the NLG RH upper drag link could result in NLG collapse during landing.

and

This Airworthiness Directive (AD) is prompted by reports of several in-service cracked torque tubes. A reduced wall thickness produced during the manufacturing process has been determined to be the initial cause. Additionally, all the involved torque tubes have been found to show fatigue cracking problems.

Such a condition, if left uncorrected, could lead to failure of the torque tube and result in loss of the steering control on ground and consequent unsafe condition.

The proposed AD would require actions that are intended to address the unsafe conditions described in the MCAI.

DATES: We must receive comments on this proposed AD by June 8, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090.

SUPPLEMENTARY INFORMATION:

Comments Invited

We invite you to send any written relevant data, views, or arguments about this proposed AD. Send your comments to an address listed under the ADDRESSES section. Include “Docket No. FAA-2009-0437; Directorate Identifier 2009-CE-018-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On July 7, 2003, we issued AD 2003-14-07, Amendment 39-13226 (68 FR 41903; July 16, 2003). That AD required actions intended to address an unsafe condition on the products listed above.

Since we issued AD 2003-14-07, an investigation of a new occurrence of an upper drag link failure revealed that the replacement part NLG RH upper drag link P/N 532.20.12.289 also suffered fatigue cracking, however at a different location.

The European Aviation Safety Agency (EASA), which is the Technical Agent for the Member States of the European Community, has issued AD No.: 2009-0086 dated April 14, 2009, and AD No.: 2009-0060 dated March 11, 2009 (referred to after this as “the MCAI”), to correct the unsafe conditions for the specified products. The MCAI (two different MCAI) states:

FOCA AD HB 2002-271 was issued because the Nose Landing Gear (NLG) Right Hand (RH) upper drag link, Part Number (P/N) 532.20.12.140 was found broken on some aircraft due to fatigue cracking, and therefore a life limit of 4,000 landings was introduced.

Recent investigation of a new occurrence revealed that the replacement part NLG RH upper drag link P/N 532.20.12.289 also suffered fatigue cracking, however on a different location.

Complete failure of the NLG RH upper drag link could result in NLG collapse during landing. To address that condition, this AD is issued to mandate the implementation of the latest revision of the PC-12 Aircraft Maintenance Manual (AMM) chapter 4—airworthiness limitations section—by establishing repetitive inspections for the NLG RH upper drag links P/N 532.20.12.140 and P/N 532.20.12.289.

and

This Airworthiness Directive (AD) is prompted by reports of several in-service cracked torque tubes. A reduced wall thickness produced during the manufacturing process has been determined to be the initial cause. Additionally, all the involved torque tubes have been found to show fatigue cracking problems.

Such a condition, if left uncorrected, could lead to failure of the torque tube and result in loss of the steering control on ground and consequent unsafe condition.

For the reason described above, this new AD mandates the replacement of certain torque tubes by new ones of an improved design and the latest revision of chapter 4 `limitations' of the PC-12 Aircraft Maintenance Manual (AMM) which introduces the new life limit for torque tubes with Part Number (P/N) 532.50.12.047.

You may obtain further information by examining the MCAI in the AD docket.

Relevant Service Information

PILATUS AIRCRAFT LTD. has issued Service Bulletin No: 32-021, dated November 21, 2008. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD will affect 540 products of U.S. registry. We also estimate that it would take about 3.5 work-hours per product to comply with the basic requirements of this proposed AD. The average labor rate is $80 per work-hour. Required parts would cost about $300 per product.

Based on these figures, we estimate the cost of the proposed AD on U.S. operators to be $313,200, or $580 per product.

In addition, we estimate that any necessary follow-on actions would take about 6 work-hours and require parts costing $4,000, for a cost of $4,480 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13226 (68 FR 41903; July 16, 2003), and adding the following new AD:

Pilatus Aircraft LTD.: Docket No. FAA-2009-0437; Directorate Identifier 2009-CE-018-AD.

Comments Due Date

(a) We must receive comments by June 8, 2009.

Affected ADs

(b) This AD supersedes AD 2003-14-07, Amendment 39-13226.

Applicability

(c) This AD applies to the following model and serial number airplanes, certificated in any category:

(1) Models PC-12, PC-12/45, PC-12/47, manufacturer serial numbers (MSNs) 101 through 544, and MSNs 546 through 888; and

(2) Model PC-12/47E, MSN 545 and MSNs 1001 through 1150.

Subject

(d) Air Transport Association of America (ATA) Code 32: Landing Gear.

Reason

(e) The mandatory continuing airworthiness information (MCAI) (two different MCAI) states:

FOCA AD HB 2002-271 was issued because the Nose Landing Gear (NLG) Right Hand (RH) upper drag link, Part Number (P/N) 532.20.12.140 was found broken on some aircraft due to fatigue cracking, and therefore a life limit of 4,000 landings was introduced.

Recent investigation of a new occurrence revealed that the replacement part NLG RH upper drag link P/N 532.20.12.289 also suffered fatigue cracking, however on a different location.

Complete failure of the NLG RH upper drag link could result in NLG collapse during landing. To address that condition, this AD is issued to mandate the implementation of the latest revision of the PC-12 Aircraft Maintenance Manual (AMM) chapter 4—airworthiness limitations section—by establishing repetitive inspections for the NLG RH upper drag links P/N 532.20.12.140 and P/N 532.20.12.289.

and

This Airworthiness Directive (AD) is prompted by reports of several in-service cracked torque tubes. A reduced wall thickness produced during the manufacturing process has been determined to be the initial cause. Additionally, all the involved torque tubes have been found to show fatigue cracking problems.

Such a condition, if left uncorrected, could lead to failure of the torque tube and result in loss of the steering control on ground and consequent unsafe condition.

For the reason described above, this new AD mandates the replacement of certain torque tubes by new ones of an improved design and the latest revision of chapter 4 `limitations' of the PC-12 Aircraft Maintenance Manual (AMM) which introduces the new life limit for torque tubes with Part Number (P/N) 532.50.12.047.

Actions and Compliance

(f) Unless already done, do the following actions:

(1) Limitations Section Actions: For all airplanes, before further flight after the effective date of this AD, insert Structural and Component Limitations—Airworthiness Limitations, document 12-A-04-00-00-00A-000T-A, dated January 28, 2009 (for PC-12, PC-12/45, PC-12/47), and Structural and Component Limitations—Airworthiness Limitations, document 12-B-04-00-00-00A-000A-A, dated January 27, 2009 (for PC-12/47E), into the Limitations section of the FAA-approved maintenance program (e.g., maintenance manual). The owner/operator holding at least a private pilot certificate as authorized by 14 CFR 43.7 may do this action. Make an entry in the aircraft records showing compliance with this portion of the AD following 14 CFR 43.9. The limitations section revision does the following:

(i) Establishes a life limit for torque tube P/N 532.50.12.047 and does not impose a life limit on torque tube P/N 532.50.12.064;

(ii) Requires doing initial and repetitive inspections of nose landing gear right hand upper drag link P/N 532.20.12.140 (for PC-12 and PC-12/45 airplanes) or P/N 532.20.12.289 (for all airplanes) in accordance with the time limits specified in the revision. The previous limitations did not allow installation of the upper drag link P/N 532.20.12.140 on PC-12/47 and PC-12/47E. The 4,000 landing limit for the upper drag link P/N 532.20.12.140 installed on the PC-12 and PC-12/45 is retained from AD 2003-14-07 through this limitation requirement; and

(iii) Does not require doing initial and repetitive inspections of nose landing gear right hand upper drag link P/N 532.20.12.296; therefore, installation of upper drag link P/N 532.20.12.296 terminates the inspection requirement referenced in paragraph (f)(1)(ii) of this AD.

(2) Additional Torque Tube Actions:

(i) For PC-12 and PC-12/45, S/N 101 through 299, airplanes: Within the next 100 hours time-in-service (TIS) after the effective date of this AD or 1 year after the effective date of this AD, whichever occurs first, replace the torque tube P/N 532.50.12.047 with torque tube P/N 532.50.12.064 following PILATUS AIRCRAFT LTD. Service Bulletin No: 32-021, dated November 21, 2008.

(ii) For all airplanes: As of the effective date of this AD, do not install torque tube P/N 532.50.12.047.

FAA AD Differences

Note: This AD differs from the MCAI and/or service information as follows: No differences.

Other FAA AD Provisions

(h) The following provisions also apply to this AD:

(1) Alternative Methods of Compliance (AMOCs): The Manager, Standards Office, FAA, has the authority to approve AMOCs for this AD, if requested using the procedures found in 14 CFR 39.19. Send information to Attn: Doug Rudolph, Aerospace Engineer, FAA, Small Airplane Directorate, 901 Locust, Room 301, Kansas City, Missouri 64106; telephone: (816) 329-4059; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et.seq.), the Office of Management and Budget (OMB) has approved the information collection requirements and has assigned OMB Control Number 2120-0056.

Special Flight Permit

(i) We are limiting the special flight permits for this AD by requiring you to fly with the landing gear extended in order to reach the nearest maintenance facility where the inspection or replacement is done.

Related Information

(j) Refer to MCAI (two different MCAI) AD No.: 2009-0086 dated April 14, 2009, and AD No.: 2009-0060 dated March 11, 2009; PILATUS AIRCRAFT LTD. Service Bulletin No: 32-021, dated November 21, 2008; Structural and Component Limitations—Airworthiness Limitations, document 12-A-04-00-00-00A-000T-A, dated January 28, 2009; and Structural and Component Limitations—Airworthiness Limitations, document 12-B-04-00-00-00A-000A-A, dated January 27, 2009, for related information.

Issued in Kansas City, Missouri, on May 1, 2009.
Scott A. Horn,
Acting Manager, Small Airplane Directorate, Aircraft Certification Service.

[FR Doc. E9-10728 Filed 5-7-09; 8:45 am]

BILLING CODE 4910-13-P